DEPARTMENT OF COMMERCE

International Trade Administration

[A-471-807]

Certain Uncoated Paper From Portugal: Final Results of Antidumping Duty Changed Circumstances Review

AGENCY: Enforcement and Compliance, International Trade Administration, Department of Commerce.

SUMMARY: On October 18, 2016, The Department of Commerce (the “Department”) published its initiation and preliminary results of a changed circumstances review of the antidumping duty (“AD”) order on certain uncoated paper from Portugal. The Department preliminarily determined that The Navigator Company, S.A. and Navigator Fine Paper, S.A. (collectively “Navigator”) is the successor in interest to Portucel, S.A. and Portucel Soporcel Fine Paper, S.A. (collectively “Portucel”) for purposes of the AD order and, as such, is entitled to Portucel's cash deposit rate with respect to entries of subject merchandise. We invited interested parties to comment on the preliminary results. As no parties submitted comments, and there is no additional information or evidence on the record, the Department is making no changes to the Preliminary Results.

DATES: Effective November 23, 2016.

FOR FURTHER INFORMATION CONTACT: Carrie Bethea, AD/CVD Operations, Office V, Enforcement and Compliance, International Trade Administration, U.S. Department of Commerce, 1401 Constitution Avenue NW., Washington, DC 20230; telephone: (202) 482-1491.

SUPPLEMENTARY INFORMATION:

Background

On October 18, 2016, the Department initiated a changed circumstances review and made a preliminary finding that Navigator is the successor-in-interest to Portucel and is entitled to Portucel's cash deposit rate with respect to entries of subject merchandise.¹ We also provided interested parties 14 days from the date of publication of the Preliminary Results to submit case briefs in accordance with 19 CFR 351.309(c)(1)(ii). No interested parties submitted case briefs or requested a hearing. On October 12, 2016, the Department issued draft customs instructions to interested parties and solicited comments.² None were received.

¹ Certain Uncoated Paper from Portugal: Initiation and Preliminary Results of Antidumping Duty Changed Circumstances Review, 81 FR 71703 (October 18, 2016) (Preliminary Results).

² See Memo to the File from Carrie Bethea, regarding, Changed Circumstances Review: Certain Uncoated Paper from Portugal, Draft U.S. Customs and Border Protection (“CBP”) Instructions, dated October 12, 2016.

Scope of the Order

The merchandise subject to the order is certain uncoated paper. The product is currently classified under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the investigation is dispositive.³

³ For a complete description of the Scope of the Order, see (Preliminary Results).

Final Results of Changed Circumstances Review

Because no party submitted a case brief in response to the Department's Preliminary Results, and because the record contains no other information or evidence that calls into question the Preliminary Results, the Department continues to find that Navigator is the successor-in-interest to Portucel, and is entitled to Portucel's cash deposit rate with respect to entries of merchandise subject to the AD order on uncoated paper from Portugal.⁴

⁴ For a complete discussion of the Department's findings, which remain unchanged in these final results and which are herein incorporated by reference and adopted by this notice, see generally (Preliminary Results).

Instructions to U.S. and Border Protection

Based on these final results, we will instruct U.S. Customs and Border Protection to collect estimated ADs for all shipments of subject merchandise exported by Navigator and entered, or withdrawn from warehouse, for consumption on or after the publication date of this notice in the Federal Register at the current AD cash deposit rate for Portucel (i.e., 7.80 percent). This cash deposit requirement shall remain in effect until further notice.

Notification to Interested Parties

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing this final results notice in accordance with sections 751(b) and 777(i) of the Tariff Act of 1930, as amended, and 19 CFR 351.216.

Dated: November 17, 2016.
Paul Piquado,
Assistant Secretary for Enforcement and Compliance.

[FR Doc. 2016-28239 Filed 11-22-16; 8:45 am]

BILLING CODE 3510-DS-P